DEPARTMENT OF HEALTH AND HUMAN SERVICES

Centers for Disease Control and Prevention

[60Day-08-08AA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of health communication messages for Infertility Prevention Campaign—New—National Center for HIV, Hepatitis, Sexually Transmitted Disease Prevention, and Tuberculosis Prevent (NCHHSTP), Division of Sexually Transmitted Disease Prevention (DSTDP), Centers for Disease Control and Prevention (CDC).

Background and Brief Description

Chlamydia is among the leading causes of pelvic inflammatory disease (PID), which can lead to infertility, ectopic pregnancy, and chronic pelvic pain. Most cases of Chlamydia are asymptomatic so infected girls and women are unaware of their infections. CDC estimates that in 2005, young women aged 15 to 19 years had the highest Chlamydia rate, i.e. 2,797 infected persons per 100,000 populations, followed by women aged 20 to 24 where the rate was 2,691 infected persons per 100,000 population. These rates are likely to be underestimates, because many infected persons do not seek medical care and testing. Data at CDC suggest that Chlamydia develops into PID in up to 40% of untreated women and that 12% of women are infertile after their first experience with PID.

CDC plans to obtain public preferences for the framing and dissemination of Chlamydia information that will guide CDC in developing and testing health communication messages about Chlamydia with girls/women in the following age groups: 15-17 year olds who attend school (n = 54) and, 15-17 year olds who do not attend school (n = 18), totaling 72. 18-25 years who are employed (n = 27) and, 18-25 year olds who attend school full time (n = 27), totaling 54. We will also include parents of girls 15-17 years old (n = 72). We will interview 126 respondents from the screened groups. We will recruit participants throughout the United States and conduct interviews by telephone or in person at local pre-determined focus group facility. There are no costs to the respondents other than their time.

Estimated Annualized Burden Hours
Form name | Type of respondents | Number of respondents | Responses per respondent | Average burden per response (in hours) | Total burden hours
Participant Screenings | Ages 15-17 attending school Ages 15-17 not attending school | 72 | 1 | 5/60 | 6
| Ages 18-25 employed Ages 18-25 attending school full time | 54 | 1 | 5/60 | 5
Parent Screening Interviews | Parent(s) of 15-17 yr olds | 72 | 1 | 5/60 | 6
Participant Interviews | Selected 15-25 yr olds | 126 | 1 | 2 | 252
Total Burden Hours |  |  |  |  | 269

Dated: October 22, 2007.
Maryam I. Daneshvar,
Acting Reports Clearance Officer, Centers for Disease Control and Prevention.

[FR Doc. E7-21196 Filed 10-26-07; 8:45 am]

BILLING CODE 4163-18-P